DEPARTMENT OF STATE

[Public Notice 4641]

Meeting of the Department of State Advisory Committee on Cultural Diplomacy

SUMMARY: The Department of State Advisory Committee on Cultural Diplomacy will meet March 31, 2004 at 1 p.m. Members of the press and general public may attend, although attendance will be limited by seating availability. Access to Department of State buildings is strictly controlled, and individual building passes are required for all attendees.

To attend the meeting, please call (202) 205-2178 or (202) 205-2122 and provide your date of birth and Social Security number. Members of the public who have confirmed their attendance must present a photo ID at the security desk before they enter the Department of State and are escorted to the meeting room.

The Advisory Committee on Cultural Diplomacy is responsible for advising the Secretary of State on programs and policies to advance the use of cultural diplomacy in United States foreign policy. This charge includes providing to the Secretary guidance on increasing the presentation abroad of the finest of U.S. creative, visual, and performing arts, as well as strategies for increasing public-private partnerships to sponsor cultural exchange programs that promote the national interests of the United States. An agenda for the committee's first session will be distributed at the meeting.

Dated: March 10, 2004.
Joseph Merante,
Chief, Cultural Programs Division, Office of Citizen Exchanges, Bureau of Educational and Cultural Affairs, Department of State.

[FR Doc. 04-5899 Filed 3-15-04; 8:45 am]

BILLING CODE 4710-05-P